DEPARTMENT OF COMMERCE

National Institute of Standards and Technology

Malcolm Baldrige National Quality Award Board of Overseers

AGENCY: National Institute of Standards and Technology, Department of Commerce.

ACTION: Notice of Public Meeting.

SUMMARY: Pursuant to the Federal Advisory Committee Act, 5 U.S.C. app. 2, notice is hereby given that there will be a meeting of the Board of Overseers of the Malcolm Baldrige National Quality Award on June 17, 2009. The Board of Overseers is composed of eleven members prominent in the fields of quality, innovation, and performance excellence and appointed by the Secretary of Commerce, assembled to advise the Secretary of Commerce on the conduct of the Baldrige Award. The purpose of this meeting is to discuss and review information received from the National Institute of Standards and Technology with the members of the Judges Panel of the Malcolm Baldrige National Quality Award. The agenda will include: Baldrige Program Strategic Plan, Initiation of Two Contracts, and Baldrige Collaborative and “Trifecta” (Baldrige Program, Baldrige Foundation, and the Alliance for Performance Excellence) Activities.

DATES: The meeting will convene June 17, 2009, at 8:30 a.m. and adjourn at 3 p.m. on June 17, 2009.

ADDRESSES: The meeting will be held at the National Institute of Standards and Technology, Administration Building, Lecture Room B, Gaithersburg, Maryland 20899. All visitors to the National Institute of Standards and Technology site will have to pre-register to be admitted. Please submit your name, time of arrival, e-mail address and phone number to Diane Harrison no later than Tuesday, June 16, 2009, and she will provide you with instructions for admittance. Ms. Harrison's e-mail address is diane.harrison@nist.gov and her phone number is (301) 975-2361.

FOR FURTHER INFORMATION CONTACT: Dr. Harry Hertz, Director, National Quality Program, National Institute of Standards and Technology, Gaithersburg, Maryland 20899, telephone number (301) 975-2361.

Dated: April 29, 2009.
Patrick Gallagher,
Deputy Director.

[FR Doc. E9-10342 Filed 5-4-09; 8:45 am]

BILLING CODE 3510-13-P